DEPARTMENT OF THE INTERIOR

National Park Service

National Register of Historic Places; Notification of Pending Nominations

Nominations for the following properties being considered for listing in the National Register were received by the National Park Service before April 8, 2000. Pursuant to section 60.13 of 36 CFR part 60 written comments concerning the significance of these properties under the National Register criteria for evaluation may be forwarded to the National Register, National Park Service, 1849 C St. NW, NC400, Washington, DC 20240. Written comments should be submitted by May 4, 2000.

Carol D. Shull,
Keeper of the National Register.

ALASKA

Kenai Peninsula Borough-Census Area

Johnson, Harry A., Trapline Cabin, 20 mi. S of Hope, Hope, 00000424

CALIFORNIA

Los Angeles County

St. John's Episcopal Church, 514 W. Adams Blvd., Los Angeles, 00000425

San Diego County

Naval Training Station, Barnett St. and Rosecrans Blvd., San Diego, 00000426

FLORIDA

Collier County

Monroe Station, Jct. of Tamiami Trail and Loop Rd., Ochopee, 00000427

Orange County

Polasek, Albin, House and Studio, 633 Osceola Ave., Winter Park, 00000428

MARYLAND

Frederick County

Linganore Farm, 6229 Linganore Rd., Frederick, 00000429

MISSOURI

Greene County

Hotel Sansone, (Springfield, Missouri MPS (Additional Documentation)) 312 Park Central East, Springfield, 00000430

Marquette Hotel, (Springfield, Missouri MPS (Additional Documentation)) 400 East Walnut, Springfield, 00000431

Jackson County

Baker-Vawter Building, 915-917 Wyandotte, Kansas City, 00000432

Columbia Building, 2006-2012 Wyandotte St., Kansas City, 00000433

Helping Hand Institute Building, 523 Grand Blvd., Kansas City, 00000434

National Garage, 1100-1110 McGee St., Kansas City, 00000436

Safeway Stores and Office and Warehouse Building, 2029-2043 Wyandotte St., Kansas City, 00000435

Scotland County

Bible Grove Consolidated District #5 School, South side of Rte T. at Bible Grove, Bible Grove, 00000441

St. Louis County

Kreienkamp Store, 19160 Melrose Rd., Wildwood, 00000439

St. Louis Independent City

Hamilton—Brown Shoe Factory, 2031 Olive St., St. Louis, 00000437

Kennard, J., and Sons Carpet Company Building, 400 Washington Ave., St. Louis, 00000438

Stork Inn, 4527 Virginia Ave, 3301 Taft Ave., 4526 Idaho Ave., St. Louis, 00000440

NORTH CAROLINA

Chatham County

Pittsboro Historic District, (Pittsboro MRA) Roughly bounded by Chatham St., Small St., Rectory St., and Launis St., Pittsboro, 00000442

Johnston County

Brooklyn Historic District, Roughly bounded by Spring Branch Creek, S. Fifth St., S. Third St., and Lee St., Smithfield, 00000443

Lenoir County

CSS NEUSE, 2612 W. Vernon Ave., Kinston, 00000444

OREGON

Hood River County

Cliff Lodge, 3345 Cascade Ave., Hood River, 00000445

Jackson County

Ashland Downtown Historic District, Roughly bounded by Lithia Way/C St., Church, Lithia Park/Hargadine, and Gresham Sts., Ashland, 00000446

Multnomah County

Fairmount Hotel, 1920 NW 26th Ave., Portland, 00000448

Villa St. Clara Apartments, 909 SW Twelfth Ave., Portland, 00000449

Yamhill County

Union Block, 610-620 W. First St., Newberg, 00000450

PENNSYLVANIA

Allegheny County

Phipps—McElveen Building,

525-529 Penn Ave., Pittsburgh, 00000451

Jefferson County

Segers, Redferd, House, US 219, opposite Snyder Township Rte 1025, Snyder Township, 00000447

Washington County

Nelson, John H., House, 104 Colvin Rd., Fallowfield, 00000452

TEXAS

Travis County

Austin Central Fire Station #1, 401 E. Fifth St., Austin, 00000454

Wood County

Robinson, Florence, Cottage, Washington Place at Emma B. Smith Blvd., Jarvis Christian College, Hawkins, 00000453

WASHINGTON

Spokane County

Mount Saint Michael, 8500 N. Saint Michael Rd., Spokane, 00000456

WISCONSIN

Door County

Zahn, August, Blacksmith Shop and House, 8152 WI trunk 57, Baileys Harbor, 00000455

A request for REMOVAL has been made for the following resource:

MASSACHUSETTS

Worcester County

Northborough Town Hall, NE corner of W. Main and Blake St., Northborough, 72000151

[FR Doc. 00-9706 Filed 4-18-00; 8:45 am]

BILLING CODE 4310-70-P